DEPARTMENT OF HEALTH AND HUMAN SERVICES

Substance Abuse and Mental Health Services Administration

Meeting of the Substance Abuse and Mental Health Services Administration, Center for Mental Health Services National Advisory Council

AGENCY: Substance Abuse and Mental Health Services Administration, HHS.

ACTION: Notice.

SUMMARY: Notice is hereby given of the meeting on August 17, 2021 of the Substance Abuse and Mental Health Services Administration (SAMHSA), Center for Mental Health Services National Advisory Council (CMHS NAC). The meeting is open to the public and can be accessed remotely. Agenda with call-in information will be posted on the SAMHSA website prior to the meeting at: https://www.samhsa.gov/about-us/advisory-councils/meetings. The meeting will include consideration of the minutes from the March 18, 2021, SAMHSA, CMHS NAC meeting; updates from the CMHS Director to include discussions on the Mental Health Block Grant, Certified Community Behavioral Health Clinic, and Children Services; and updates from the Office of the Assitant Secretary for Mental Health and Substance Use.

DATES: Tuesday, August 17, 2021, 1:00 p.m. to 4:30 p.m., EDT, (OPEN).

ADDRESSES: The meeting will be held virtually only.

FOR FURTHER INFORMATION CONTACT: Pamela Foote, Designated Federal Officer, CMHS National Advisory Council, 5600 Fishers Lane, Room 14E57B, Rockville, Maryland 20857, Telephone: (240) 276-1279, Fax: (301) 480-8491, Email: pamela.foote@samhsa.hhs.gov.

SUPPLEMENTARY INFORMATION: Interested persons may present data, information, or views, orally or in writing, on issues pending before the Council. Individuals interested in sending written submissions or making public comments, must forward them and notify the contact person on or before July 30, 2021. Up to three minutes will be allotted for each presentation.

Registration is required to participate during this meeting. To attend virtually, or to obtain the call-in number and access code, submit written or brief oral comments, or request special accommodations for persons with disabilities, please register on-line at: http://snacregister.samhsa.gov/MeetingList.aspx or communicate with the CMHS NAC Designated Federal Officer; Pamela Foote.

Meeting information and a roster of Council members may be obtained by accessing the SAMHSA website at: http://www.samhsa.gov/about-us/advisory-councils/cmhs-national-advisory-council or by contacting the CMHS NAC Designated Federal Officer; Pamela Foote.

Council Name: Substance Abuse and Mental Health Services Administration, Center for Mental Health Services National Advisory Council.

Dated: June 25, 2021.
Carlos Castillo,
Committee Management Officer, SAMHSA.

[FR Doc. 2021-14031 Filed 6-30-21; 8:45 am]

BILLING CODE 4162-20-P